DEPARTMENT OF COMMERCE

National Oceanic and Atmospheric Administration

[RTID 0648-XA486]

Marine Mammals and Endangered Species

AGENCY: National Marine Fisheries Service (NMFS), National Oceanic and Atmospheric Administration (NOAA), Commerce.

ACTION: Notice; issuance of permits and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Shasta McClenahan (Permit No. 23467-01); Jennifer Skidmore (Permit Nos. 18902-01 and 19590-02), and Erin Markin (Permit No. 23836); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in Table 1 below.

Table 1—Issued Permits and Permit Amendments
Permit No. | RTID | Applicant | Previous Federal Register notice | Issuance date
18902-01 | 0648-XD856 | Colleen Reichmuth, Ph.D., Long Marine Laboratory, University of California at Santa Cruz, 100 Shaffer Road, Santa Cruz, CA 95064 | 81 FR 2846; January 19, 2016 | August 31, 2020.
19590-02 | 0648-XE022 | Terrie M. Williams, Ph.D., Long Marine Laboratory, University of California Santa Cruz, 115 McAllister Way, Santa Cruz, CA 95060 | 80 FR 59738; October 2, 2015 | August 31, 2020.
23467-01 | 0648-XA119 | Sarah Conner, Wild Space Productions, St. Stephens House, Colston Avenue, Bristol, BS1 4ST, United Kingdom | 85 FR 21837; April 20, 2020 | August 3, 2020.
23836 | 0648-XA232 | Wildstar Films, Ltd., Embassy House, Queens Avenue, Bristol, BS8 1SB, United Kingdom (Responsible Party: Jo Harvey) | 85 FR 36377; June 16, 2020 | August 21, 2020.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: September 14, 2020.
Julia Marie Harrison,
Chief, Permits and Conservation Division, Office of Protected Resources, National Marine Fisheries Service.

[FR Doc. 2020-20495 Filed 9-16-20; 8:45 am]

BILLING CODE 3510-22-P